DEPARTMENT OF THE TREASURY

Bureau of Alcohol, Tobacco and Firearms

27 CFR Part 25

[T.D. ATF-437a]

RIN 1512-AC07

Delegation of Authority for Part 25

ACTION: Treasury Decision, final rule; correction.

SUMMARY: This document makes one correction to a final rule published in the Federal Register of January 19, 2001, regarding delegation of authorities contained in part 25, title 27 Code of Federal Regulations (CFR).

DATES: This rule is effective January 19, 2001.

FOR FURTHER INFORMATION CONTACT: Robert Ruhf, Regulations Division, Bureau of Alcohol, Tobacco and Firearms, 650 Massachusetts Avenue NW., Washington, DC 20226 (202-927-8210).

SUPPLEMENTARY INFORMATION:

Background

The Bureau of Alcohol, Tobacco and Firearms (ATF) published a document in the Federal Register of January 19, 2001 (66 FR 5477). The words “regional director (compliance)” in the last sentence of § 25.284(d) should have been changed to “appropriate ATF officer”. This document corrects this error.

Correction

In rule FR Doc. 01-1164 published on January 19, 2001, make the following correction:

On page 5480, in the second column, the third and last sentences of § 25.284(d) are corrected to read as follows:

§ 25.284 Adjustment of Tax.

* * * * *

(d) Beer lost, destroyed or rendered unmerchantable.

* * * A brewer may not make an adjustment prior to notification required under § 25.282(e). When beer appears to have been lost due to theft, the brewer may not make an adjustment to the tax return until establishing to the satisfaction of the appropriate ATF officer that the theft occurred before removal from the brewery and occurred without connivance, collusion, fraud, or negligence on the part of the brewer, consignor, consignee, bailee, or carrier, or the employees or agents of any of them.

* * * * *

Signed: March 29, 2001.
Bradley A. Buckles,
Director.

[FR Doc. 01-8261 Filed 4-2-01; 8:45 am]

BILLING CODE 4810-31-P